DEPARTMENT OF ENERGY

Federal Energy Regulatory Commission

Combined Notice of Filings #1

Take notice that the Commission received the following exempt wholesale generator filings:

Docket Numbers: EG22-22-000.

Applicants: Skipjack IA, LLC.

Description: Notice of Self-Certification of Exempt Wholesale Generator Status of Skipjack IA, LLC.

Filed Date: 11/8/21.

Accession Number: 20211108-5078.

Comment Date: 5 p.m. ET 11/29/21.

Take notice that the Commission received the following electric rate filings:

Docket Numbers: ER21-2449-002.

Applicants: Assembly Solar II, LLC.

Description: Compliance filing: Informational Filing for Achieving Commercial Operation to be effective 11/5/2021.

Filed Date: 11/8/21.

Accession Number: 20211108-5193.

Comment Date: 5 p.m. ET 11/29/21.

Docket Numbers: ER22-188-000.

Applicants: Indra Power Business CT, LLC.

Description: Supplement to October 22, 2021 Indra Power Business CT, LLC tariff filing.

Filed Date: 11/5/21.

Accession Number: 20211105-5215.

Comment Date: 5 p.m. ET 11/26/21.

Docket Numbers: ER22-357-000.

Applicants: PJM Interconnection, L.L.C.

Description: § 205(d) Rate Filing: Amendment to WMPA, SA No. 5545; Queue No. AE2-125 to be effective 12/11/2019.

Filed Date: 11/8/21.

Accession Number: 20211108-5097.

Comment Date: 5 p.m. ET 11/29/21.

Docket Numbers: ER22-358-000.

Applicants: Public Service Electric and Gas Company, PJM Interconnection, L.L.C.

Description: § 205(d) Rate Filing: Public Service Electric and Gas Company submits tariff filing per 35.13(a)(2)(iii: Revisions to the CTOA, Section 8 re: TO Voting Structure to be effective 1/10/2022.

Filed Date: 11/8/21.

Accession Number: 20211108-5109.

Comment Date: 5 p.m. ET 11/29/21.

Docket Numbers: ER22-360-000.

Applicants: PJM Interconnection, L.L.C.

Description: Tariff Amendment: Notice of Cancellation of WMPA, SA No. 4601; Queue Nos. AB2-010/AB2-011 to be effective 2/5/2019.

Filed Date: 11/8/21.

Accession Number: 20211108-5139.

Comment Date: 5 p.m. ET 11/29/21.

Docket Numbers: ER22-361-000.

Applicants: AEP Texas Inc.

Description: § 205(d) Rate Filing: AEPTX-Concho Valley Solar 1st A&R Generation Interconnection Agreement to be effective 10/27/2021.

Filed Date: 11/8/21.

Accession Number: 20211108-5153.

Comment Date: 5 p.m. ET 11/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2021.
Debbie-Anne A. Reese,
Deputy Secretary.

[FR Doc. 2021-24854 Filed 11-12-21; 8:45 am]

BILLING CODE 6717-01-P